DEPARTMENT OF THE INTERIOR

Bureau of Land Management

[ID-957-1420-BJ]

Idaho: Filing of Plats of Survey

AGENCY: Bureau of Land Management, Interior.

ACTION: Notice of Filing of Plats of Surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho 83709-1657.

SUPPLEMENTARY INFORMATION: These surveys were executed at the request of the Bureau of Land Management to meet certain administrative and management purposes: The plat, in 2 sheets, constitutes the entire survey record of the dependent resurvey of a portion of the west boundary, and a portion of the subdivisional lines, designed to restore the corners in their true original locations according to the best available evidence, and a metes-and-bounds survey of a portion of the Craters of the Moon National Monument in sections 25, 26, 27, 28, 29, 30, and 36, in T. 5 S., R. 24 E., Boise Meridian, Idaho, was accepted April 1, 2004. The plat, in 3 sheets, constitutes the entire survey record of the dependent resurvey of a portion of the north boundary, and a portion of the subdivisional lines, designed to restore the corners in their true original locations according to the best available evidence, and a metes-and-bounds survey of a portion of the Craters of the Moon National Monument in sections 4, 9, 16, 21, 22, 25, 26, 27, 34, 35, and 36, in T. 5 S., R. 23 E., Boise Meridian, Idaho, was accepted April 2, 2004.

The plat, in 2 sheets, constitutes the entire survey record of the dependent resurvey of portions of the north and east boundaries, and subdivisional lines, designed to restore the corners in their true original locations according to the best available evidence, and a metes-and-bounds survey of a portion of the Craters of the Moon National Monument in sections 1, 12, 13, 14, 22, 23, 27, 28, and 33, in T. 4 S., R. 23 E., Boise Meridian, Idaho, was accepted April 6, 2004.

The plat constituting the entire survey record of the dependent resurvey of a portion of the subdivisional lines, designed to restore the corners in their true original locations according to the best available evidence, and a metes-and-bounds survey of a portion of the Craters of the Moon National Monument in section 6, in T. 4 S., R. 24 E., Boise Meridian, Idaho, was accepted April 7, 2004.

The plat representing the dependent resurvey of a portion of the south boundary and subdivisional lines, and the subdivision of sections 23, 25, 26, 28, 33, and 35, in T. 55 N., R. 3 W., Boise Meridian, Idaho, was accepted April 20, 2004.

The plat representing the dependent resurvey of portions of the south boundary and subdivisional lines, and the subdivision of section 34, in T. 7 S., R. 36 E., Boise Meridian, Idaho, was accepted April 21, 2004.

The plat, in 3 sheets, representing the dependent resurvey of a portion of the subdivisional lines, portions of the original 1879 meanders of the Snake River in sections 14, 22 and 27, and portions of Tract Numbers 37, 38 and 41, and the subdivision of section 15, a metes-and-bounds survey in section 22, the survey of portions of the 2000-2002 meanders of the Snake River in sections 14, 22 and 27, the survey of the 2000-2002 meanders of certain islands in the Snake River in sections 14, 15 and 22, and the survey of a 2000-2002 partition line in section 22, in T. 5 N., R. 37 E., Boise Meridian, Idaho, was accepted April 30, 2004.

SUMMARY: The Bureau of Land Management (BLM) will file the plat of survey of the lands described below in the BLM Idaho State Office, Boise, Idaho, 30 days from the date of publication in the Federal Register.

The plat, in 4 sheets, representing the dependent resurvey of portions of the Tenth Standard Parallel North (south boundary), subdivisional lines, and boundaries of certain mineral surveys, and the subdivision of section 33, in T. 48 N., R. 5 E., Boise Meridian, Idaho, was accepted April 30, 2004.

Dated: June 2, 2004.
Harry K. Smith,
Chief Cadastral Surveyor for Idaho.

[FR Doc. 04-12915 Filed 6-7-04; 8:45 am]

BILLING CODE 4310-GG-P